DEPARTMENT OF COMMERCE

International Trade Administration

(C-533-821)

Notice of Extension of Time Limit for Preliminary Results of Countervailing Duty Administrative Review: Certain Hot-Rolled Carbon Steel Flat Products from India

AGENCY: Import Administration, International Trade Administration, Department of Commerce.

EFFECTIVE DATE: September 7, 2005.

FOR FURTHER INFORMATION CONTACT: Preeti Tolani or Tipten Troidl, AD/CVD Operations, Office 3, Import Administration, International Trade Administration, U.S. Department of Commerce, 14th Street and Constitution Avenue, NW, Washington, DC 20230; telephone: (202) 482-0395 and (202) 482-1767, respectively.

SUPPLEMENTARY INFORMATION:

Background Information

On January 31, 2005, the U.S. Department of Commerce (“the Department”) published a notice of initiation of the administrative review on the countervailing duty order of certain hot-rolled carbon steel flat products from India, covering the period January 1, 2004, through December 31, 2004. See Initiation of Antidumping and Countervailing Duty Administrative Reviews and Request for Revocation in Part, 70 FR 4818 (January 31, 2005). The preliminary results of this review are currently due no later than September 2, 2005.

Extension of Time Limit of Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of this review within the 245-day period is not practicable for the following reason. On July 19, 2005, the Department issued a New Subsidy Allegation memorandum, where we initiated on one new program and agreed to examine two additional programs that the Department has investigated in other India CVD proceedings. See July 19, 2005, New Subsidy Allegation memorandum from the team to Melissa G. Skinner, Office Director (“New Subsidy Allegation Memorandum”). Conducting the analyses for each program would require the Department to gather and analyze a significant amount of information pertaining to these programs. The Department gave respondent parties 37 days to provide the requested information on these programs. The current due date is August 25, 2005, with no extensions. Given the number and complexity of issues in this case, and in accordance with section 751(a)(3)(A) of the Act, we are extending the time period for issuing the preliminary results of review by 120 days. Therefore, the preliminary results are now due no later than December 31, 2005. However, December 31 falls on Saturday and January 2 is a federal holiday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is January 3, 2006. The final results continue to be due 120 days after publication of the preliminary results.

Dated: August 31, 2005.
Barbara E. Tillman,
Acting Deputy Assistant Secretary for Import Administration.

[FR Doc. E5-4863 Filed 9-6-05; 8:45 am]

BILLING CODE 3510-DS-S